DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App 2, the United States Department of Agriculture (USDA) announces a meeting of the National Agricultural Research, Extension, Education, and Economics Advisory Board.

DATES: The National Agricultural Research, Extension, Education, and Economics Advisory Board will meet October 23-25, 2012. The public may file written comments before or up to two weeks after the meeting with the contact person.

ADDRESSES: The meeting will take place at the Phoenix Park Hotel, 520 North Capitol Street NW., Washington, DC 20001. Written comments from the public may be sent to the Contact Person identified in this notice at: The National Agricultural Research, Extension, Education, and Economics Advisory Board Office, Room 3901 South Building, United States Department of Agriculture, STOP 0321, 1400 Independence Avenue SW., Washington, DC 20250-0321.

FOR FURTHER INFORMATION CONTACT: J. Robert Burk, Executive Director or Shirley Morgan-Jordan, Program Support Coordinator, National Agricultural Research, Extension, Education, and Economics Advisory Board; telephone: (202) 720-3684; fax: (202) 720-6199; or email: Robert.Burk@usda.gov or Shirley.Morgan@ars.usda.gov.

SUPPLEMENTARY INFORMATION: The Honorable Secretary of Agriculture Tom Vilsack, and the Under Secretary of Research, Education, and Economics Dr. Catherine Woteki have been invited to provide brief remarks and welcome the new Board members during the meeting.

On Tuesday, October 23, 2012, an orientation session for new members and interested incumbent members will be held from 1 p.m.-5:30 p.m. Specific topics of discussion will include a briefing on ethical behavior for federal advisory committee members, an introduction to the agencies of the USDA's Research, Education, and Economics Mission Area, and information on the core functions of those agencies and the impact of the current budget status on their operations.

On Wednesday, October 24, 2012 the full Advisory Board will convene at 8:00 a.m. followed shortly thereafter with the appointment of a new Chair of the Advisory Board. The meeting will also include: brief introductions of new Board members, incumbents, and guests; the election of the Vice-Chair of the Advisory Board; comments from a variety of distinguished leaders, experts, and departmental personnel; and items of board business. Specific items on the agenda will include a discussion related to the international programs related to the Research, Education, and Economics Mission Area, and a discussion on the role of the Board in advising the Secretary of Agriculture, and Congress. The afternoon session will end by 5 p.m. An evening session will convene at 6 p.m. and include a vote for the fiscal year 2013 executive committee members of the Board. The meeting will adjourn for the day by 8 p.m.

On Thursday October 25, 2012, the Board will reconvene at 8 a.m. to: discuss initial recommendations resulting from the meeting and future planning for the Board; to organize the membership of the committees, and working groups of the Advisory Board; and to finalize Board business for the meeting. The Board Meeting will adjourn by 12 p.m. (noon).

This meeting is open to the public and any interested individuals wishing to attend.

Opportunity for public comment will be offered each day of the meeting. Written comments by attendees or other interested stakeholders will be welcomed for the public record before and up to two weeks following the Board meeting (by close of business Thursday, November 8, 2012). All statements will become a part of the official record of the National Agricultural Research, Extension, Education, and Economics Advisory Board and will be kept on file for public review in the Research, Education, and Economics Advisory Board Office.

Done at Washington, DC, this 17th day of September 2012.
Catherine Woteki,
Under Secretary, Research, Education, and Economics.

[FR Doc. 2012-23610 Filed 9-24-12; 8:45 am]

BILLING CODE 3410-22-P